AGENCY FOR INTERNATIONAL DEVELOPMENT

Partnership for Peace Fund Advisory Board; Notice of Meeting

AGENCY: Agency for International Development.

ACTION: Request for public comment and notice of public meeting.

SUMMARY: The United States Agency for International Development (USAID) announce a public meeting and request public comment for the inaugural meeting of the Partnership for Peace Fund (PPF) Advisory Board to (1) review best practices for people-to-people peacebuilding activities; (2) discuss partnership-types and methods of outreach; (3) discuss inaugural recommendations of board members on potential programming priorities; and (4) address administrative matters.

DATES:

1. Written comments and information are requested on or before April 8, 2022, at 5:00 p.m. EDT.

2. The public meeting will take place on Wednesday, April 13, 2022, from 8:00 a.m. to 10:30 a.m. EDT via the BlueJeans platform (https://primetime.bluejeans.com/a2m/live-event/xcdwydbg).

3. The meeting does not require pre-registration.

ADDRESSES: You may submit comments regarding the work of the Partnership for Peace Advisory Board by email to MEPPA@usaid.gov. Include “Public Comment, PPF Advisory Board Meeting, April 13” in the subject line. All public comments and questions will be included in the official record of the meeting and posted publicly on the USAID website.

Please email MEPPA@usaid.gov to request reasonable accommodations for the public meeting. Include “Request for Reasonable Accommodation, PPF Advisory Board Meeting, April 13” in the subject line.

FOR FURTHER INFORMATION CONTACT: Daniel McDonald, 202-712-4938, meppa@usaid.gov.

SUPPLEMENTARY INFORMATION: In December 2020, Congress passed the Nita M. Lowey Middle East Partnership for Peace Act, or MEPPA, with bipartisan support. The Act directs USAID and the U.S. International Development Finance Corporation, in coordination with the Department of State, to program $250 million over five years to build the foundation for peaceful coexistence between Israelis and Palestinians through a new Partnerships for Peace Fund, managed by USAID, and a Joint Investment Initiative, managed by the DFC.

The Act serves as a recognition that economic, social, and political connections between Israelis and Palestinians is the best way to foster mutual understanding and provide the strongest basis for a sustainable, two-state solution. USAID's Middle East Bureau has been been working with Congress, interagency colleagues, and partners in Israel and the Palestinian territories to implement the Act. The Act also calls for the establishment of a board to advise USAID on the strategic direction of the Partnership for Peace Fund.

Composed of up to 15 members, the PPF Advisory Board includes development experts, private sector leaders and faith-based leaders who are appointed by members of Congress and the USAID Administrator. As stated in its charter, the Board's role is to:

1. To consult with, provide information to and advise USAID, and other U.S. Government agencies, as appropriate, on matters and issues relating to the People-to-People Partnership for Peace Fund, including on:

• The efficacy of United States and international support for grassroots, people-to-people efforts aimed at fostering tolerance, countering extremist propaganda and incitement in the State of Israel, the West Bank, and Gaza;

• strengthening engagement between Palestinians and Israelis, including through people-to-people peace-building programs to increase the bonds of friendship and understanding; and

• investing in cooperation that develops the Palestinian economy and results in joint economic ventures;

2. To make recommendations on the types of projects USAID should seek to further the purposes of the People-to-People Partnership for Peace Fund;

3. To make recommendations on partnerships with foreign governments and international organizations to leverage the impact of People-to-People Partnership for Peace Fund; and

4. To inform USAID's required reporting to the appropriate Congressional committees.

Advisory Board Members as of March 23, 2022:

• Chair: The Honorable George R. Salem

• The Honorable Elliott Abrams

• Rabbi Angela Buchdahl

• Rabbi Michael M. Cohen

• Sander Gerber

• Ambassador Mark Green (ret.)

• Hiba Husseini

• Heather Johnston

• Harley Lippman

• The Honorable Nita M. Lowey

• Dina Powell McCormick

• Jen Stewart

• The Honorable Robert Wexler

PPF Advisory Board meetings are held twice a year and are public. More information about how USAID is implementing MEPPA to increase people-to-people partnerships between Israelis and Palestinians is available at: https://www.usaid.gov/west-bank-and-gaza/meppa.

The purpose of this meeting is for the Advisory Board to gain a better understanding of the unique challenges of peace building in the Israeli/Palestinian context.

During this meeting, the Board will (1) review best practices for people-to-people peacebuilding activities; (2) discuss partnership-types and methods of outreach; (3) discuss inaugural recommendations of board members on potential programming priorities; and (4) address administrative matters.

Request for Public Comment

To inform the direction and advice of the Board, USAID invites written comments from the public on areas for focus and strategies for people-to-people peacebuilding under the PPF.

Written comments and information are requested on or before Friday, April 8, 2022, at 5:00 p.m. EDT. Include “Public Comment, PPF Advisory Board Meeting, April 13” in the subject line. Please submit comments and information as a Word or PDF attachment to your email. You are encouraged to submit written comments even if you plan to attend the public meeting. All public comments and questions will be included in the official record of the meeting and posted publicly on the USAID website.

Public Meeting

A public meeting will take place April 13, 2022, from 8:00 a.m. to 10:30 a.m. EDT. This meeting is free and open to the public. Persons wishing to attend the meeting should use the following link: https://primetime.bluejeans.com/a2m/live-event/xcdwydbg.

American Sign Language interpretation will be provided during the public meeting. Requests for reasonable accommodations should be directed to Daniel McDonald at MEPPA@usaid.gov. Please include “Request for Reasonable Accommodation, PPF Advisory Board Meeting, April 13” in the subject line.

Megan Doherty,
USAID Designated Federal Officer for the PPF Advisory Board, Bureau for the Middle East, U.S. Agency for International Development.

[FR Doc. 2022-06519 Filed 3-28-22; 8:45 am]

BILLING CODE 6116-01-P